DEPARTMENT OF VETERANS AFFAIRS

Veterans and Community Oversight and Engagement Board, Notice of Meeting

The Department of Veterans Affairs (VA) gives notice under the Federal Advisory Committee Act, 5 U.S.C. ch. 10, that the Veterans and Community Oversight and Engagement Board (Board) will meet on September 28-29, 2023, at Veterans Administration Central Office (VACO), 810 Vermont Avenue NW, Washington, DC 20429. The meeting sessions will begin, and end as follows:

Date | Time
September 28, 2023 | 8:30 a.m. to 5:00 p.m.—Eastern Daylight Time (EDT).
September 29, 2023 | 8:30 a.m. to 5:00 p.m.—EDT.

The meetings are open to the public and will be recorded.

The Board was established by the West Los Angeles Leasing Act of 2016 on September 29, 2016. The purpose of the Board is to provide advice and make recommendations to the Secretary of Veterans Affairs on identifying the goals of the community and Veteran partnership; improving services and outcomes for Veterans, members of the Armed Forces, and the families of such Veterans and members; and on the implementation of the Draft Master Plan approved by VA Secretary on January 28, 2016, and on the creation and implementation of any successor master plans.

On Thursday, September 28, 2023, the Board will meet in open session with key staff of the VA Greater Los Angeles Healthcare System, (VAGLAHS), and Department of Veteran Affairs Leadership. The agenda will include opening remarks from the Board Chair, Executive Sponsor, and other VA officials. There will be an overview provided by the Veterans Experience Office (VEO) highlighting VEO Organization and Operations. The Director of VAGLAHS will provide opening remarks and provide an overview of ongoing progress associated with the GLA campus. The Board will receive presentations on the status of the hiring process and VHA hiring fairs, and an in-depth presentation of the Town Center Concept final report generated by the ULI Technical Assistance Panel. The Board will receive a comprehensive presentation on Barriers to existing Housing and Urban Development (HUD) Voucher use followed by a presentation from HUD leadership on HUD strategies to reduce administrative burdens and the potential for Area Median Income policy modifications. The Community Engagement and Reintegration Service Office will provide an overview of the Coordinated Entry System, and a comprehensive trend analysis of the data reflected on the VAGLAHS Dashboard. The Community Engagement and Reintegration Service Office will also provide an overview of the Housing Navigating Contracts, and an update on plans for future use of the CTRS site. The Office of Asset and Enterprises Management will present detailed information on the VA Greater Los Angeles Medical Center campus parcel release plan.

On Friday September 29, 2023, the Board will reconvene in open session from 8:30 a.m. to 4:15 p.m. Each Enhanced Use Lease developer is scheduled to provide an updated status of ongoing construction to include projected completion date, proposed move in plan, current selected service provider and funding commitment levels. The VAGLAHS Community Engagement and Reintegration Service Office will provide an overview of the One Team efforts since the last meeting to include data on reductions in eh “interest list' as well as changes in the By Name List (BNL) and placement rates. The Board's subcommittees on Outreach and Community Engagement with Services and Outcomes, and Master Plan with Services and Outcomes will provide an out brief to the full Board and update on draft recommendations to be considered for forwarding to the Secretary.

Time will be allocated for receiving public comments on September 28, 2023, at 4:00 p.m. EDT. Individuals wishing to make public comments should contact Chihung Szeto at 562-708-9959 or at Chihung.Szeto@va.gov and are requested to submit a 1-2-page summary of their comments for inclusion in the official meeting record. Only those members of the public (first 12 public comment registrants) who have confirmed registrations to provide public comment will be allowed to provide public comment. In the interest of time, each speaker will be held to 3-5 minutes time limit. The Board will accept written comments from interested parties on issues outlined in the meeting agenda, from September 20 through October 6, 2023. Members of the public not able to attend in person can attend the meeting via WEBEX by joining from the meeting link below. The link will be active from 8:00 a.m.-5:45 p.m. EDT, September 28, 2023 and 8:00 a.m.-5:45 p.m. EDT, September 29, 2023.

Day 1: September 28, 2023

Veteran Community Oversight and Engagement Board (VCOEB) 21st Meeting

Hosted by Walsh, Margaret K. (ERPI)

https://veteransaffairs.webex.com/veteransaffairs/j.php?MTID=ma78e82a155d0ec78e0599f8acb932cd7

Thursday, September 28, 2023, 8:00 a.m. | 9 hours | (UTC-04:00) Eastern Time (US & Canada)

Meeting number: 2762 163 7715

Password: sdRppp3P*65

Join by video system:

Dial 27621637715@veteransaffairs.webex.com

You can also dial 207.182.190.20 and enter your meeting number.

Join by phone:

14043971596 USA Toll Number

Access code: 276 216 37715

Day 2: September 29, 2023

Veteran Community Oversight and Engagement Board (VCOEB) 21st Meeting

Hosted by Walsh, Margaret K. (ERPI)

https://veteransaffairs.webex.com/veteransaffairs/j.php?MTID=me46251dfcb4b4cc246c3eed70f06330f

Friday, September 29, 2023, 8:00 a.m. | 9 hours | (UTC-04:00) Eastern Time (US & Canada)

Meeting number: 2761 269 5365

Password: FJqx7Jb5X@5

Join by video system:

Dial 27612695365@veteransaffairs.webex.com

You can also dial 207.182.190.20 and enter your meeting number.

Join by phone:

14043971596 USA Toll Number

Access code: 276 126 95365

Any member of the public seeking additional information should contact Mr. Eugene W. Skinner Jr. at 202-631-7645 or at Eugene.Skinner@va.gov.

Dated: August 18, 2023.
Jelessa M. Burney,
Federal Advisory Committee Management Officer.

[FR Doc. 2023-18126 Filed 8-22-23; 8:45 am]

BILLING CODE P